DEPARTMENT OF TRANSPORTATION

Office of the Secretary

Notice of Applications for Certificates of Public Convenience and Necessity and Foreign Air Carrier Permits Filed Under Subpart B (Formerly Subpart Q) During the Week Ending September 6, 2002

The following Applications for Certificates of Public Convenience and Necessity and Foreign Air Carrier Permits were filed under subpart B (formerly subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2002-13302.

Date Filed: September 5, 2002.

Due Date for Answers, Conforming Applications, or Motion to Modify Scope: September 26, 2002.

Description: Application of Jetsgo Corporation, pursuant to 49 U.S.C. 41302 et seq., and parts 211 and 302, subpart B, requesting a foreign air carrier permit authorizing it to engage in scheduled and charter foreign air transportation of persons, property and mail between a point or points in Canada and a point or points in the United States, pursuant to the Air Transport Services Agreement between the United States of America and Canada.

Dorothy Y. Beard,
Federal Register Liaison.

[FR Doc. 02-23474 Filed 9-13-02; 8:45 am]

BILLING CODE 4910-62-P